DEPARTMENT OF LABOR

Occupational Safety and Health Administration

29 CFR Parts 1917 and 1918

[Docket No. S-025A]

RIN 1218-AA56

Longshoring and Marine Terminals; Vertical Tandem Lifts

AGENCY: Occupational Safety and Health Administration (OSHA), Department of Labor.

ACTION: Extension of comment period.

SUMMARY: The Department of Labor is extending the comment and hearing request period for its proposed standard titled Longshoring and Marine Terminals; Vertical Tandem Lifts, for an additional sixty (60) days until February 13, 2004.

DATES: Written Comments: Comments and hearing requests must be submitted by the following dates.

Hard Copy: You must submit your comments and hearing requests (postmarked or sent) by February 13, 2004.

Facsimile and electronic transmission: You must submit your comments and hearing requests by February 13, 2004. (Please see the SUPPLEMENTARY INFORMATION below for additional information on submitting comments.)

ADDRESSES: You may submit comments and hearing requests, identified by docket number S-025A and/or RIN number 1218-AA56, by any of the following methods:

• Federal eRulemaking Portal: http://www.regulations.gov. Follow the instructions for submitting comments.

• Agency Web Site: Follow the instructions for submitting comments, hearing requests, or electronic documents through the OSHA Internet Home page at http://ecomments,.osha.gov.

• Fax: If your submissions, including any attachments, are 10 pages or fewer, you may fax them to the OSHA Docket Office at (202) 693-1648. You must include the docket number of this notice, Docket No. S-025AS, in your comments or hearing request.

• Mail: Submit three copies of your comments or hearing requests to the OSHA Docket Office, Docket No. S-025A, Room N-2625, U.S. Department of Labor, 200 Constitution Avenue, NW., Washington, DC 20210. Because of security-related problems, there may be a significant delay in the receipt of submissions by regular mail.

• Hand Delivery/Courier: Submit three copies of your comments or hearing requests to the OSHA Docket Office, Docket No. S-025A, Room N-2625, U.S. Department of Labor, 200 Constitution Avenue, NW., Washington, DC 20210. OSHA Docket Office and Department of Labor hours of operation are 8:15 a.m. to 4:45 p.m., e.s.t. Please contact the OSHA Docket Office at (202) 693-2350 (OSHA's TTY number is (877) 889-5627) for information about security procedures concerning the delivery of materials by express delivery, hand delivery, and messenger service.

Instructions: All submissions received must include the agency name and the docket number S-025A or Regulatory Information Number (RIN) 1218-AA56 for this rulemaking. For detailed instructions on submitting comments and additional information on the rulemaking process, see the SUPPLEMENTARY INFORMATION section of this document.

Docket: For access to the docket to read background documents or comments received, go to OSHA's Web page at http://www.osha.gov or the OSHA Docket Office at the address above. Contact the OSHA Docket Office at (202) 693-2350 (OSHA's TTY number is (877) 889-5627 for information about materials not available through the OSHA Web page and for assistance in using the Web page to locate docket submissions.

FOR FURTHER INFORMATION CONTACT: For technical inquiries, contact Paul Rossi, OSHA, Office of Maritime, Directorate of Standards and Guidance, U.S. Department of Labor, Room N-3609, 200 Constitution Avenue, NW., Washington, DC 20210; telephone: (202) 693-2086. For general information and press inquiries, contact OSHA, Office of Communications, U.S. Department of Labor, Room N-3647, 200 Constitution Avenue, NW., Washington, DC 20210; telephone: (202) 693-1999. For additional copies of this Federal Register notice, contact OSHA, Office of Publications, U.S. Department of Labor, Room N-3101, 200 Constitution Avenue, NW., Washington, DC 20210; telephone (202) 693-1888. Electronic copies of this Federal Register notice, as well as news releases and other relevant documents, are available at OSHA's Web page on the Internet at http://www.osha.gov.

SUPPLEMENTARY INFORMATION:

I. Extension of Comment Period

OSHA announced publication of its proposed standard for Longshoring and Marine Terminals; Vertical Tandem Lifts, in the Federal Register on September 16, 2003 (68 FR 54297). In that notice, the Agency provided the public with ninety (90) days to submit written comments, with a final date of December 15, 2003. Several interested persons have an extension of the deadline for submitting comments based on the need for additional time to gather information and to provide a thorough review and response to the proposed standard. In light of the interest expressed by the public, OSHA is providing an additional sixty (60) days for the submission of comments and hearing requests. Accordingly, written comments and hearing requests must now be submitted by February 13, 2004.

II. Obtaining Copies of the Proposed Standard

You can download the proposed standard for Vertical Tandem Lifts from OSHA's Web page at http://www.osha.gov. A printed copy of the proposed standard is available from the OSHA Office of Publications, Room N-3101, U.S. Department of Labor, 200 Constitution Avenue, NW., Washington, DC 20210, or by telephone at (800) 321-OSHA (6742). You may fax your request for a copy of the proposed standard to (202) 693-2498.

III. Submission of Comments and Internet Access to Comments

You may submit comments in response to this document by (1) hard copy, (2) fax transmission (facsimile), or (3) electronically through the OSHA Web page. You may supplement electronic submissions by uploading document files electronically. If you wish to mail additional materials in reference to an electronic submission, you must submit three copies of the materials to the OSHA Docket Office at the address above. The additional materials must clearly identify your electronic comments by name, date, subject, and docket number so we can attach them to your comments. Because of security-related procedures the use of regular mail may cause a significant delay in the receipt of comments. Please contact the OSHA Docket Office at (202) 693-2350 (TTY (877) 889-5627) for information about security procedures concerning the delivery of materials by express delivery, hand delivery, and messenger service.

All comments and submissions will be available for inspection and copying at the OSHA Docket Office at the above address. Comments and submissions will be posted on OSHA's Web page at http://www.osha./gov. OSHA cautions you about submitting personal information such as social security numbers, date of birth, etc. Contact the OSHA Docket Office at (202) 693-2350 (TTY (877) 889-5627) for information about materials not available through the OSHA Web page and for assistance in using the Internet to locate docket submissions.

Authority and Signature

The notice was prepared under the direction of John L. Henshaw, Assistant Security for Occupational Safety and Health. It is issued under sections 4, 6 and 8 of the Occupational Safety and Health Act of 1970 (29 U.S.C. 653, 655, 657), Section 41 of the Longshore and Harbor Workers' Compensation Act (33 U.S.C. 941), Secretary's Order 5-2002 (67 FR 65008), and 29 CFR part 1911.

Signed at Washington, DC, this 4th day of December 2003.
John L. Henshaw,
Assistant Secretary of Labor.

[FR Doc. 03-30576 Filed 12-9-03; 8:45 am]

BILLING CODE 4510-26-M